ENVIRONMENTAL PROTECTION AGENCY

[ER-FRL-9008-2]

Environmental Impacts Statements; Notice of Availability

Responsible Agency: Office of Federal Activities, General Information (202) 564-7146 or http://www.epa.gov/compliance/nepa/.

Weekly receipt of Environmental Impact Statements

Filed 03/04/2013 Through 03/08/2013

Pursuant to 40 CFR 1506.9.

Notice

Section 309(a) of the Clean Air Act requires that EPA make public its comments on EISs issued by other Federal agencies. EPA's comment letters on EISs are available at: http://www.epa.gov/compliance/nepa/eisdata.html

EIS No. 20130057, Final EIS, USFWS, CA, Llano Seco Riparian Sanctuary Unit Restoration and Pumping Plant/Fish Screen Facility Protection Project, Review Period Ends: 04/15/2013, Contact: Kelly Moroney 530-934-2801.

EIS No. 20130058, Final Supplement, NPS, WY, Yellowstone National Park Winter Use Plan, Review Period Ends: 04/15/2013, Contact: Wade Vagias 307-344-2035.

EIS No. 20130059, Draft EIS, USFWS, ID, Deer Flat National Wildlife Refuge Draft Comprehensive Conservation Plan, Comment Period Ends: 05/15/2013, Contact: Jennifer Brown-Scott 208-467-9278.

EIS No. 20130060, Draft EIS, DOE, CO, PROGRAMMATIC—Draft Uranium Leasing Program, Comment Period Ends: 05/16/2013, Contact: Ray Plieness 303-410-4806.

EIS No. 20130061, Draft EIS, USFS, OR, McKay Fuels and Vegetation Management Project, Comment Period Ends: 04/29/2013, Contact: Marcy Anderson 541-419-0517.

EIS No. 20130062, Draft EIS, USFS, NM, Roca Honda Mine Project, Exploration and Mine Development, Cibola National Forest, Comment Period Ends: 05/14/2013, Contact: Diane Tafoya 505-346-3809.

EIS No. 20130063, Final EIS, CALTRAN, CA, Tier 1—State Route 180 Westside Expressway, Review Period Ends: 04/15/2013, Contact: Kelly Hobbs 559-445-5286.

Dated: March 12, 2013.
Cliff Rader,
Director, NEPA Compliance Division, Office of Federal Activities.

[FR Doc. 2013-06104 Filed 3-14-13; 8:45 am]

BILLING CODE 6560-50-P